DEPARTMENT OF COMMERCE

International Trade Administration

Department of Mechanical Engineering, Texas A&M University, Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave., NW., Washington, D.C.

Docket Number: 12-024. Applicant: Department of Mechanical Engineering, Texas A&M University, College Station, TX 77843-3123. Instrument: Arc melting system. Manufacturer: Edmund Beuhler GmbH, Germany. Intended Use: See notice at 77 FR 32942, June 4, 2012. Comments: None received. Decision: Approved. We know of no instruments of equivalent scientific value to the foreign instruments described below, for such purposes as this is intended to be used, that was being manufactured in the United States at the time of its order. Reasons: The unique features of this instrument include the capability of suction casting and ceramic powder feed-through for the addition of oxide nanoparticles during the melting of metals. Suction casting is required to achieve nanocrystalline grains, and ceramic powder feed-through will be used to mix ceramic powders with melted metals to achieve metal based nanocomposites.

Dated: June 29, 2012.
Gregory W. Campbell,
Director, Subsidies Enforcement Office, Import Administration.

[FR Doc. 2012-16582 Filed 7-5-12; 8:45 am]

BILLING CODE 3510-DS-P